DEPARTMENT OF ENERGY

Energy Information Administration

Agency Information Collection Extension

AGENCY: U.S. Energy Information Administration (EIA), Department of Energy (DOE).

ACTION: Notice and request for comments.

SUMMARY: EIA invites public comments on the proposed three-year extension, without changes, to the Uranium Data Program (UDP) as required under the Paperwork Reduction Act of 1995. The UDP consists of three surveys: Form EIA-851A Domestic Uranium Production Report (Annual), which collects annual data from the U.S. uranium industry on uranium milling and processing, uranium feed sources, uranium mining, employment, drilling, expenditures, and uranium reserves; Form EIA-851Q Domestic Uranium Production Report (Quarterly), which collects monthly data that is reported on a quarterly basis, on uranium production on a quarterly basis; and Form EIA-858 Uranium Marketing Annual Survey, which collects annual data from the U.S. uranium market on uranium contracts and deliveries, inventories, enrichment services purchased, uranium in fuel assemblies, feed deliveries to enrichers, and unfilled market requirements for the current year and the following ten years.

DATES: EIA must receive all comments on this proposed information collection no later than November 4, 2024. If you anticipate any difficulties in submitting your comments by the deadline, contact the person listed in ADDRESSES section of this notice as soon as possible.

ADDRESSES: You may submit comments, identified by OMB control number 1905-0160, by email at EIA-FRNcomments@eia.gov. Include the OMB control number above in the subject line of the message.

FOR FURTHER INFORMATION CONTACT: Kenneth Pick, EIA Clearance Officer, at (202) 586-5562. The form and instructions are available at https://www.eia.gov/survey/.

SUPPLEMENTARY INFORMATION:

This information collection request contains:

(1) OMB No.: 1905-0160;

(2) Information Collection Request Title: Uranium Data Program;

(3) Type of Request: Three-year extension without changes;

(4) Purpose: Uranium Data Program (UDP) collects data on domestic uranium supply and demand activities, including production, exploration and development, trade, purchases and sales available to the U.S. The users of these data include Congress, Executive Branch agencies, the nuclear and uranium industry, electric power industry, and the public. Form EIA-851A data is published in EIA's Domestic Uranium Production Report—Annual, at https://www.eia.gov/uranium/production/annual/. Form EIA-851Q data is published in EIA's Domestic Uranium Production Report—Quarterly at https://www.eia.gov/uranium/production/quarterly/. Form EIA-858 data is published in EIA's Uranium Marketing Annual Report at https://www.eia.gov/uranium/marketing/ and Domestic Uranium Production Report—Annual at https://www.eia.gov/uranium/production/annual;

(5) Annual Estimated Number of Respondents: 99;

(6) Annual Estimated Number of Total Responses: 132;

(7) Annual Estimated Number of Burden Hours: 1775;

(8) Annual Estimated Reporting and Recordkeeping Cost Burden: EIA estimates that there are no capital and start-up costs associated with this data collection. The information is maintained during the normal course of business. The cost of the burden hours is estimated to be $161,809 (1,775 burden hours times $91.16 per hour). Other than the cost of burden hours, EIA estimates that there are no additional costs for generating, maintaining, and providing this information.

Comments are invited on: (a) whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: 15 U.S.C. 772(b), 42 U.S.C. 7101 et seq.

Signed in Washington, DC, August 28, 2024.
Samson A. Adeshiyan,
Director, Office of Statistical Methods and Research, U. S. Energy Information Administration.

[FR Doc. 2024-19703 Filed 8-30-24; 8:45 am]

BILLING CODE 6450-01-P